DEPARTMENT OF AGRICULTURE

Food Safety and Inspection Service

[Docket No. FSIS-2017-0053]

Codex Alimentarius Commission: Meeting of the Codex Committee on Residues of Veterinary Drugs in Food

AGENCY: Office of the Deputy Under Secretary for Food Safety, USDA.

ACTION: Notice of public meeting and request for comments.

SUMMARY: The Office of the Deputy Under Secretary for Food Safety, U.S. Department of Agriculture (USDA), and the Food and Drug Administration (FDA), are sponsoring a public meeting on April 4, 2018. The objective of the public meeting is to provide information and receive public comments on agenda items and draft United States (U.S.) positions to be discussed at the 24th Session of the Codex Alimentarius Commission's (Codex's) Committee on Residues of Veterinary Drugs in Foods (CCRVDF), taking place in Chicago, Illinois, April 23-27, 2018. The Deputy Under Secretary for Food Safety and the FDA recognize the importance of providing interested parties the opportunity to obtain background information on the 24th Session of the CCRVDF and to address items on the agenda.

DATES: The public meeting is scheduled for Wednesday, April 4, 2018, from 1:00 p.m. to 4:00 p.m.

ADDRESSES: The public meeting will take place at the USDA, Jamie L. Whitten Building, 1400 Independence Avenue SW, Room 107-A, Washington, DC 20250.

Documents related to the 24th Session of the CCRVDF will be accessible via the internet at the following address: http://www.codexalimentarius.org/meetings-reports/en/.

Brandi Robinson, U.S. Delegate to the 24th Session of the CCRVDF, invites U.S. interested parties to submit their comments electronically to the following email address: Brandi.Robinson@fda.hhs.gov.

Call-in-Number

If you wish to participate in the public meeting for the 24th Session of the CCRVDF by conference call, please use the following call-in-number:

Call-in-Number: 1-888-844-9904.

The participant code will be posted on the following web page: http://www.fsis.usda.gov/wps/portal/fsis/topics/international-affairs/us-codex-alimentarius/public-meetings.

Registration

Attendees may register to attend the public meeting by emailing uscodex@fsis.usda.gov by April 2, 2018. Early registration is encouraged as it will expedite entry into the building. The meeting will be held in a Federal building. Attendees should bring photo identification and plan for adequate time to pass through the security screening systems. Persons who are not able to attend the meeting in person, but wish to participate, may do so by phone.

FOR FURTHER INFORMATION ABOUT THE 24TH SESSION OF THE CCRVDF CONTACT: Brandi Robinson, International Program Manager, Office of New Animal Drug Evaluation, Center for Veterinary Medicine, FDA, 7500 Standish Place, HFV-100, Rockville, MD 20855, Telephone: (240) 402-0645, Email: Brandi.Robinson@fda.hhs.gov.

FOR FURTHER INFORMATION ABOUT THE PUBLIC MEETING CONTACT: Kenneth Lowery, U.S. Codex Office, 1400 Independence Avenue SW, South Agriculture Building, Room 4861, Washington, DC 20250. Telephone: (202) 690-4042, Fax: (202) 720-3157, Email: Kenneth.Lowery@fsis.usda.gov.

SUPPLEMENTARY INFORMATION:

Background

Codex was established in 1963 by two United Nations organizations, the Food and Agriculture Organization and the World Health Organization (FAO/WHO). Through adoption of food standards, codes of practice, and other guidelines developed by its committees, and by promoting their adoption and implementation by governments, Codex seeks to protect the health of consumers and ensure fair practices in the food trade.

The CCRVDF is responsible for determining priorities for the consideration of residues of veterinary drugs in foods, recommending maximum levels of such substances, developing codes of practice as may be required, and considering methods of sampling and analysis for the determination of veterinary drug residues in foods.

The Committee is hosted by the United States.

Issues To Be Discussed at the Public Meeting

The following items on the Agenda for the 24th Session of the CCRVDF will be discussed during the public meeting:

• Matters referred by the Codex Alimentarius Commission and other subsidiary bodies;

• Matters of interest arising from the FAO/WHO and from the 85th Meeting of the Joint FAO/WHO Expert Committee on Food Additives (JECFA);

• Report of the World Organisation for Animal Health activities, including harmonization of technical requirements for registration of veterinary medicinal products (VICH);

• Draft Risk Management Recommendation for gentian violet;

• Proposed draft maximum residue limits (MRLs) for zilpaterol hydrochloride (cattle fat, kidney, liver, muscle)(81st JECFA) at Step 4;

• Proposed draft MRLs for amoxicillin (finfish fillet, muscle); ampicillin (finfish fillet, muscle); flumethrin (honey), lufenuron (salmon and trout fillet), monepantel (cattle fat, kidney, liver, muscle) (85th JECFA) at Step 3;

• Discussion paper on MRLs for groups of fish species;

• Discussion paper on edible offal tissues (possible definition and edible offal tissues of interest in international trade);

• Discussion paper on the revision of the criteria for the use of multi-residue analytical methods for the determination and identification of veterinary drugs in foods in Codex;

• Discussion paper on the evaluation of the rationale for the decline in new compounds to be included in the CCRVDF Priority List for evaluation by JECFA;

• Database on countries' need for MRLs;

• Draft priority list of veterinary drugs requiring evaluation or re-evaluation by JECFA; and

• Other business and future work.

Each issue listed will be fully described in documents distributed, or to be distributed, by the Secretariat before the Meeting. Members of the public may access or request copies of these documents (see ADDRESSES).

Public Meeting

At the April 4, 2018, public meeting, draft U.S. positions on the agenda items will be described and discussed, and attendees will have the opportunity to pose questions and offer comments. Written comments may be offered at the meeting or sent to the U.S. Delegate for the 24th Session of the CCRVDF, Brandi Robinson (see ADDRESSES). Written comments should state that they relate to the activities of the 24th Session of the CCRVDF.

Additional Public Notification

Public awareness of all segments of rulemaking and policy development is important. Consequently, FSIS will announce this Federal Register publication on-line through the FSIS web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS web page. Through the web page, FSIS is able to provide information to a much broader, more diverse audience. In addition, FSIS offers an email subscription service which provides automatic and customized access to selected food safety news and information. This service is available at: http://www.fsis.usda.gov/subscribe . Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email: Mail: U.S. Department of Agriculture, Director, Office of Adjudication, 1400 Independence Avenue SW, Washington, DC 20250-9410, Fax: (202) 690-7442, Email: program.intake@usda.gov.

Persons with disabilities who require alternative means for communication (Braille, large print, audiotape, etc.), should contact USDA's TARGET Center at (202) 720-2600 (voice and TDD).

Done at Washington, DC, on February 13, 2018.
Mary Frances Lowe,
U.S. Manager for Codex Alimentarius.

[FR Doc. 2018-03257 Filed 2-15-18; 8:45 am]

BILLING CODE 3410-DM-P